DEPARTMENT OF ENERGY

Federal Energy Regulatory Commission

Combined Notice of Filings #1

Take notice that the Commission received the following exempt wholesale generator filings:

Docket Numbers: EG12-86-000.

Applicants: Chisholm View Wind Project, LLC.

Description: Self-Certification of EG or FC of Chisholm View Wind Project, LLC.

Filed Date: 7/13/12.

Accession Number: 20120713-5125.

Comments Due: 5 p.m. ET 8/3/12.

Take notice that the Commission received the following electric rate filings:

Docket Numbers: ER07-543-002.

Applicants: Linden VFT, LLC.

Description: Open Season Report of Linden VFT, LLC.

Filed Date: 7/13/12.

Accession Number: 20120713-5129.

Comments Due: 5 p.m. ET 8/3/12.

Docket Numbers: ER11-2547-006.

Applicants: New York Independent System Operator, In

Description: Rvsd Implmnttn Dt 15 Mnt Vrbl Schdlng PJM Prxy Gnrtr Bs to be effective 6/27/2012.

Filed Date: 7/12/12.

Accession Number: 20120712-5117.

Comments Due: 5 p.m. ET 8/2/12.

Docket Numbers: ER11-4628-001.

Applicants: PJM Interconnection, L.L.C.

Description: Compliance Filing per 5/14/2012 Order in ER11-4628 versions to be effective 5/15/2012.

Filed Date: 7/13/12.

Accession Number: 20120713-5105.

Comments Due: 5 p.m. ET 8/3/12.

Docket Numbers: ER11-4628-002.

Applicants: PJM Interconnection, L.L.C.

Description: Compliance Filing per 5/14/2012 Order in ER11-4628-Versions to be effective 6/1/2012.

Filed Date: 7/13/12.

Accession Number: 20120713-5114.

Comments Due: 5 p.m. ET 8/3/12.

Docket Numbers: ER11-4628-003.

Applicants: PJM Interconnection, L.L.C.

Description: Compliance Filing per 5/14/2012 Order in ER11-4628-Versions to be effective 7/18/2012.

Filed Date: 7/13/12.

Accession Number: 20120713-5123.

Comments Due: 5 p.m. ET 8/3/12.

Docket Numbers: ER12-1870-001.

Applicants: Public Service Company of New Mexico.

Description: Compliance Filing for 2nd Revised PNM/HLM TSA to be effective 3/1/2012.

Filed Date: 7/12/12.

Accession Number: 20120712-5043.

Comments Due: 5 p.m. ET 8/2/12.

Docket Numbers: ER12-1873-001.

Applicants: Midwest Independent Transmission System.

Description: Consumers-METC DTIA Compliance (7-13-2012) to be effective 6/1/2012.

Filed Date: 7/13/12.

Accession Number: 20120713-5104.

Comments Due: 5 p.m. ET 8/3/12.

Docket Numbers: ER12-2203-001.

Applicants: GUSC Energy Inc.

Description: Amendment to July 3, 2012 MBR Application Filing to be effective 9/4/2012.

Filed Date: 7/13/12.

Accession Number: 20120713-5130.

Comments Due: 5 p.m. ET 8/3/12.

Docket Numbers: ER12-2236-000.

Applicants: ITC Great Plains, LLC.

Description: Initial Filing Lease Agreement to be effective 9/1/2012.

Filed Date: 7/12/12.

Accession Number: 20120712-5099.

Comments Due: 5 p.m. ET 8/2/12.

Docket Numbers: ER12-2237-000.

Applicants: Dunkirk Power LLC.

Description: Unexecuted Cost of Service Agreement with National Grid for RMR Service to be effective 9/11/2012.

Filed Date: 7/12/12.

Accession Number: 20120712-5126.

Comments Due: 5 p.m. ET 8/2/12.

Docket Numbers: ER12-2238-000.

Applicants: PJM Interconnection, L.L.C., American Electric Power Service Corporation.

Description: AEPSC submits 33rd Revised SA No. 1336 among AEPSC & Buckeye to be effective 5/10/2012.

Filed Date: 7/13/12.

Accession Number: 20120713-5045.

Comments Due: 5 p.m. ET 8/3/12.

Docket Numbers: ER12-2239-000.

Applicants: Linden VFT, LLC.

Description: Request for Limited Waiver of Schedule 16 of PJM Interconnection, L.L.C.'s Open Access Transmission Tariff of Linden VFT, LLC in ER12-2239.

Filed Date: 7/13/12.

Accession Number: 20120713-5065.

Comments Due: 5 p.m. ET 8/3/12.

Docket Numbers: ER12-2240-000.

Applicants: ALLETE, Inc.

Description: Revised MBR Tariff Filing to be effective 7/14/2012.

Filed Date: 7/13/12.

Accession Number: 20120713-5074.

Comments Due: 5 p.m. ET 8/3/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 13, 2012.
Nathaniel J. Davis, Sr.,
Deputy Secretary.

[FR Doc. 2012-19617 Filed 8-9-12; 8:45 am]

BILLING CODE 6717-01-P